DEPARTMENT OF COMMERCE

National Oceanic and Atmospheric Administration

50 CFR Part 635

[Docket No. 251121-0173]

RIN 0648-BM88

Atlantic Highly Migratory Species; Revisions to Commercial Atlantic Blacknose and Recreational Atlantic Shark Fisheries Management Measures; Extension of Comment Period

AGENCY: National Marine Fisheries Service (NMFS), National Oceanic and Atmospheric Administration (NOAA), Commerce.

ACTION: Proposed rule; extension of comment period.

SUMMARY: On January 5, 2026, NMFS published the proposed rule to revise commercial blacknose shark and recreational Atlantic shark fisheries management measures in the Atlantic Highly Migratory Species (HMS) shark fisheries. In the proposed rule, NMFS announced a 60-day comment period ending on March 6, 2026. During the comment period, the Gulf Fishery Management Council, the Atlantic States Marine Fisheries Commission, and the Florida Fish and Wildlife Conservation Commission requested an extension of the comment to provide additional opportunities for the public to consider and comment on the proposed measures and related analyses. NMFS is extending the comment period for this action through May 29, 2026. NMFS will consider comments received on the proposed rule in determining whether and how to implement final management measures.

DATES: The proposed rule to revise commercial blacknose shark and recreational Atlantic shark fisheries management measures was published on January 5, 2026 (91 FR 215), and provided for public comment period to March 6, 2026. The comment period is now extended to May 29, 2026. Comments must be received by May 29, 2026. Comments received after this date may not be accepted.

ADDRESSES: A plain language summary of this proposed rule is available at: https://www.regulations.gov/docket/NOAA-NMFS-2024-0039. You may submit comments on this document, identified by NOAA-NMFS-2024-0039, by electronic submission. Submit all electronic public comments via the Federal e-Rulemaking Portal. Visit https://www.regulations.gov and type “NOAA-NMFS-2024-0039” in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Additional information related to this proposed rule, including electronic copies of the supporting documents are available from the HMS Management Division website at https://www.fisheries.noaa.gov/action/proposed-rule-revisions-commercial-atlantic-blacknose-and-recreational-atlantic-shark or by contacting Guy DuBeck, see FOR FURTHER INFORMATION CONTACT section below.

FOR FURTHER INFORMATION CONTACT: Guy DuBeck (guy.dubeck@noaa.gov) or Karyl Brewster-Geisz (karyl.brewster-geisz@noaa.gov) at 301-427-8503.

SUPPLEMENTARY INFORMATION: NMFS, on behalf of the Secretary of Commerce, is responsible for managing Federal Atlantic HMS fisheries (i.e., sharks, tunas, billfish and swordfish), pursuant to the Magnuson-Stevens Fishery Conservation and Management Act (16 U.S.C. 1801 et seq.) and consistent with the Atlantic Tunas Convention Act (ATCA) (16 U.S.C. 971 et seq.). The term HMS is defined at 16 U.S.C. 1802(21), and the provisions for the management of HMS are found at 16 U.S.C. 1854(g)(1). ATCA is the implementing statute for binding recommendations of the International Commission for the Conservation of Atlantic Tunas. NMFS manages HMS fisheries under the HMS FMP and its amendments. HMS implementing regulations are at 50 CFR part 635.

NMFS released a proposed rule to revise commercial and recreational Atlantic shark fisheries management measures on January 5, 2026 (91 FR 215). That proposed rule considers options to remove the blacknose shark management boundary in the Atlantic region, modify the commercial retention limit for blacknose sharks in the Atlantic region, revise the recreational minimum size limits for Atlantic shark species, and revise the recreational retention limits for Atlantic shark species. That proposed rule would also remove commercial management group quota linkages, consistent with Amendment 14, and make technical changes to clarify certain HMS regulations.

NMFS has received requests from several groups to extend the comment period and discuss this rulemaking during upcoming meetings. During a hearing webinar on January 22, 2026, which included an opportunity for commenting on the proposed rule, commenters expressed concern regarding changing the recreational bag limit for Atlantic sharpnose and bonnethead sharks from one per person per trip to one per vessel per trip. Due to those concerns, the Gulf Fishery Management Council (Gulf Council) requested an extension of the comment period. Specifically, the Gulf Council indicated that those species are abundant and the proposed change is not related to any recent stock assessment that would warrant a decrease in harvest. The Gulf Council requested additional time to understand the rationale for the proposed changes and requested a presentation from the HMS Management Division at the April 2026 Council meeting. Similarly, the Atlantic States Marine Fisheries Commission (ASMFC) requested a presentation for their Coastal Shark Board at their May 2026 Commission meeting. In addition, the Florida Fish and Wildlife Conservation Commission requested an extension of the comment period until after the HMS Advisory Panel meeting through the end of May 2026.

After considering the requests, NMFS has determined that it is reasonable to extend the comment period to enable NMFS staff to present at the Gulf Council, ASMFC, and HMS Advisory Panel meetings, and to allow additional opportunities for public comment. Therefore, NMFS is extending the comment period through May 29, 2026. This revised comment period allows time for Council and Commission members, the regulated community, and the general public to further consider the rulemaking documents, and the analyses, data, and conclusions relevant to the proposed management measures in them, and to provide comments to NMFS. NMFS will consider these comments in determining which final management measures to implement.

Authority: 16 U.S.C. 971 et seq.; 16 U.S.C. 1801 et seq.

Dated: February 19, 2026.
Sarah Malloy,
Acting Deputy Assistant Administrator for Regulatory Programs, National Marine Fisheries Service.

[FR Doc. 2026-03792 Filed 2-24-26; 8:45 am]

BILLING CODE 3510-22-P